DEPARTMENT OF STATE

[Public Notice: 11444]

60-Day Notice of Proposed Information Collection: Electronic Choice of Address and Agent

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to August 16, 2021.

ADDRESSES: You may submit comments by any of the following methods:

• Web: Persons with access to the internet may comment on this notice by going to www.Regulations.gov. You can search for the document by entering “Docket Number: DOS-2021-0013” in the Search field. Then click the “Comment Now” button and complete the comment form.

• Email: PRA_BurdenComments@state.gov.

• Phone: Dylan Aikens at 202-485-7586.

You must include the DS form number (if applicable), information collection title, and the OMB control number in any correspondence.

FOR FURTHER INFORMATION CONTACT: Direct requests for additional information regarding the collection listed in this notice, including requests for copies of the proposed collection instrument and supporting documents, to Dylan Aikens at 202-485-7586 or PRA_BurdenComments@state.gov.

SUPPLEMENTARY INFORMATION: • Title of Information Collection: Electronic Choice of Address and Agent.

• OMB Control Number: 1405-0186.

• Type of Request: Extension of a Currently Approved Collection.

• Originating Office: CA/VO.

• Form Number: DS-261.

• Respondents: Beneficiaries of approved immigrant visa petitions.

• Estimated Number of Respondents: 11,000.

• Estimated Number of Responses: 11,000.

• Average Time per Response: 10 minutes.

• Total Estimated Burden Time: 1,833 hours.

• Frequency: On Occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The DS-261 allows the beneficiary of an approved and current immigrant visa petition to provide the Department with his or her preferred email address, which will be used for communications with the beneficiary. The DS-261 also allows the beneficiary to appoint an agent to receive mailings from the National Visa Center (NVC) and assist in the filing of various application forms and/or paying the required fees. The beneficiary is not required to appoint an agent but must provide current contact information. All cases will be held at NVC until the DS-261 is electronically submitted to the Department.

Methodology

Applicants will complete the form online and submit it electronically to the Department.

Kevin E. Bryant,
Deputy Director, Office of Directives Management, Department of State.

[FR Doc. 2021-12422 Filed 6-14-21; 8:45 am]

BILLING CODE 4710-06-P